DEPARTMENT OF TRANSPORTATION

Federal Aviation Administration

Ninth Meeting: RTCA Special Committee 223: Airport Surface Wireless Communications

AGENCY: Federal Aviation Administration (FAA), Department of Transportation (DOT).

ACTION: Notice of RTCA Special Committee 223: Airport Surface Wireless Communications meeting.

SUMMARY: The FAA is issuing this notice to advise the public of a meeting of RTCA Special Committee 223: Airport Surface Wireless Communications.

DATES: The meeting will be held May 3-5, 2011 from 9 a.m. to 5 p.m.

ADDRESSES: The meeting will be held at ITT Corp., 12930 Worldgate Drive, Herndon, VA 20170.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., and Appendix 2), notice is hereby given for a RTCA Special Committee 223: Airport Surface Wireless Communications meeting. Agenda:

Tuesday May 3, 2011

• Tuesday Morning Plenary

• Welcome, Introductions, Administrative Remarks by Special Committee Leadership

▪ Designated Federal Officer (DFO): Mr. Brent Phillips

▪ Co-Chair: Mr. Aloke Roy, Honeywell International

▪ Co-Chair: Mr. Ward Hall, ITT Corporation

▪ EUROCAE WG-82 Chair: Armin Schlereth, DFS

• Agenda Overview

• Review and Approve Plenary Eighth Meeting Summary, RTCA Paper No. 051-11/SC224-020, and Action Item Status

• RTCA PMC Feedback and Guidance on WiMAX Forum Test Suites

• General Presentations of Interest

▪ AeroMACS Mobility Test Results Update—ITT

▪ AeroMACS load estimations and performance evaluations—Max Ehammer (University of Salzburg)

• EUROCAE WG-82 Status

• Tuesday Afternoon—MOPS WG Breakout Session

• MOPS Outline

▪ Harmonize with EUROCAE Ground MOPS

▪ Core/common parts

▪ Avionics specific parts

• General Requirements

Wednesday, May 4, 2011

• Wednesday Morning—MOPS WG Breakout Session

• Avionics System Requirements

• Signal-in-space requirements

• Interface Requirements

• Interoperability requirements

• Tour of WiMAX testing facility (return by 15:00)

• Wednesday Afternoon—MOPS WG Breakout Session

• RF Performance Tests

▪ WiMAX Forum versus MOPS

Thursday, May 5, 2011

• Thursday Morning—MOPS WG Breakout Session

• Environmental Tests

• Thursday Afternoon

• Establish Agenda, Date and Place for the next plenary meetings of numbers 10 and 11. Number 10 is tentatively scheduled for June 28-29 at RTCA in Washington, DC.

• Review of Meeting Summary Report

• Adjourn

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 5, 2011.
Robert L. Bostiga,
RTCA Advisory Committee.

[FR Doc. 2011-8611 Filed 4-11-11; 8:45 am]

BILLING CODE 4910-13-P